DEPARTMENT OF JUSTICE

Antitrust Division

Notice Pursuant to the National Cooperative Research and Production Act of 1993—IMS Global Learning Consortium, Inc.

Notice is hereby given that, on December 1, 2009, pursuant to Section 6(a) of the National Cooperative Research and Production Act of 1993, 15 U.S.C. 4301 et sect. (“the Act”), IMS Global Learning Consortium, Inc. has filed written notifications simultaneously with the Attorney General and the Federal Trade Commission disclosing changes in its membership. The notifications were filed for the purpose of extending the Act's provisions limiting the recovery of antitrust plaintiffs to actual damages under specified circumstances. Specifically, Adaptive Technology Resource Centre, Toronto, Ontario, CANADA; Marist College, Poughkeepsie, NY; UNED, Madrid, SPAIN; Hanyang Cyber University (HYCU), Seongdong-gu, Seoul, REPUBLIC OF KOREA; Seoul Cyber University (SCU), Gangbuk-gu, Seoul, REPUBLIC OF KOREA; and University of Mary Washington, Fredericksburg, VA have been added as parties to this venture.

Also, New Publishing Solutions, Sparta, NJ; University of Toronto, Faculty of Info. Studies, Toronto, Ontario, CANADA; Miami-Dade College—Virtual College, Miami, FL; Ucompass.com, Inc., Tallahassee, FL; and Georgetown University, Washington, DC have withdrawn as parties to this venture.

No other changes have been made in either the membership or planned activity of the group research project. Membership in this group research project remains open, and IMS Global Learning Consortium, Inc. intends to file additional written notifications disclosing all changes in membership.

On April 7, 2000, INS Global Learning Consortium, Inc. filed its original notification pursuant to Section 6(a) of the Act. The Department of Justice published a notice in the Federal Register pursuant to Section 6(b) of the Act on September 13, 2000 (65 FR 55283).

The last notification was filed with the Department on September 17, 2009. A notice was published in the Federal Register pursuant to Section 6(b) of the Act on October 22, 2009 (74 FR 54595).

Patricia A. Brink,
Deputy Director of Operations, Antitrust Division.

[FR Doc. E9-30210 Filed 12-18-09; 8:45 am]

BILLING CODE 4410-11-M